DEPARTMENT OF DEFENSE

Department of the Army; Corps of Engineers

Availability for the Draft Feasibility Report and Environmental Impact Statement/Environmental Impact Report for the Hamilton City Flood Damage Reduction and Ecosystem Restoration, Glenn County, CA

AGENCY: Department of the Army, U.S. Army Corps of Engineers, DoD.

ACTION: Notice; extension of comment period.

SUMMARY: The comment period for the Draft Feasibility Report and Environmental Impact Statement/Environment Impact Report (DFR/DEIS-EIR) published in the Federal Register on Wednesday, March 31, 2004 (69 FR 16902), required comments be submitted on or before May 17, 2004. The comment period has been extended to May 24, 2004.

FOR FURTHER INFORMATION CONTACT: Ms. Erin Taylor, Environmental Manager, U.S. Army Corps of Engineers, 1325 J Street, Sacramento, CA 95814-2922, (916) 557-5140 or fax (916) 557-7202.

Brenda S. Bowen,
Alternate Army Federal Register Liaison Officer.

[FR Doc. 04-7965 Filed 4-7-04; 8:45 am]

BILLING CODE 3710-EZ-M